DEPARTMENT OF STATE

[Public Notice: 7441; OMB 1405-0161]

30-Day Notice of Proposed Information Collection DS 4053, Department of State Mentor-Protégé Program Application

ACTION: Notice of request for public comment and submission to OMB of proposed collection of information.

SUMMARY: The Department of State has submitted the following information collection request to the Office of Management and Budget (OMB) for approval in accordance with the Paperwork Reduction Act of 1995.

• Title of Information Collection: Department of State Mentor-Protégé Program Application.

• OMB Control Number: OMB 1405-0161.

• Type of Request: Extension of a Currently Approved Collection.

• Originating Office: Bureau of Administration, Office of Small and Disadvantaged Business Utilization—A/SDBU.

• Form Number: DS-4053.

• Respondents: Small and large for-profit companies planning to team together in an official mentor-protégé capacity to improve the likelihood of winning DOS contracts.

• Estimated Number of Respondents: 14 respondents per year.

• Estimated Number of Responses: 14 per year.

• Average Hours Per Response: 21 hours.

• Total Estimated Burden: 294 hours.

• Frequency: On occasion.

• Obligation to Respond: Required to Obtain Benefit.

DATES: Submit comments to the Office of Management and Budget (OMB) for up to 30 days from May 5, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Patricia Culbreth, A/SDBU, Patricia Culbreth, SA-6, Room L-500, Washington, DC 20522-0602 who may be reached on 703-875-6881 or at: culbrethpb@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

This information collection facilitates continuation of a mentor-protégé program that encourages business agreements between small and large for-profit companies planning to team together in an official mentor-protégé capacity to improve the likelihood of winning DOS contracts. This program assists the State Department OSDBU office in reaching its small business goals.

Methodology

Respondents may submit the information by e-mail using DS-4053, or by letter using fax or postal mail.

Additional Information: None.

Dated: April 27, 2011.
Shapleigh C. Drisko,
Operations Director, Office of Small and Disadvantaged Business Utilization, Department of State.

[FR Doc. 2011-11009 Filed 5-4-11; 8:45 am]

BILLING CODE 4710-24-P